DEPARTMENT OF TRANSPORTATION

Federal Aviation Administration

Supplemental Notice of Meeting of the National Parks Overflights Advisory Group Aviation Rulemaking Committee

ACTION: Revised notice of meeting and additional information.

SUMMARY: The Federal Aviation Administration (FAA) and the National Park Service (NPS), in accordance with the National Parks Air Tour Management Act of 2000, announce the next meeting of the National Parks Overflights Advisory Group (NPOAG) Aviation Rulemaking Committee (ARC). This notification provides the date, format, and agenda for the meeting and provides additional information to the Federal Register notice published on February 3, 2009 (Vol. 74, No. 21, Page 5969) by providing the call in number for the public to access the telcon.

Dates and Location: The NPOAG ARC will hold a meeting on February 25th, 2009. The meeting will be conducted as a telephone conference call. The meeting will be held from 9 a.m. to 12 p.m. Pacific Standard Time on February 25th. This NPOAG meeting will be open to the public. Interested persons may listen in on the conference call (see Public Participation at the Meeting)

FOR FURTHER INFORMATION CONTACT: Barry Brayer, AWP-1SP, Special Programs Staff, Federal Aviation Administration, Western-Pacific Region Headquarters, P.O. Box 92007, Los Angeles, CA 90009-2007, telephone: (310) 725-3800, e-mail: Barry.Brayer@faa.gov, or Vicki McCusker, National Park Service, Natural Sounds Program, 1201 Oakridge Dr., Suite 100, Fort Collins, CO 80525, telephone: (970) 267-2117, e-mail: Vicki_McCusker@nps.gov.

SUPPLEMENTARY INFORMATION:

Background

The National Parks Air Tour Management Act of 2000 (NPATMA), enacted on April 5, 2000, as Public Law 106-181, required the establishment of the NPOAG within one year after its enactment. The Act requires that the NPOAG be a balanced group of representatives of general aviation, commercial air tour operations, environmental concerns, and Native American tribes. The Administrator of the FAA and the Director of NPS (or their designees) serve as ex officio members of the group. Representatives of the Administrator and Director serve alternating 1-year terms as chairman of the advisory group.

The duties of the NPOAG include providing advice, information, and recommendations to the FAA Administrator and the NPS Director on: implementation of Public Law 106-181; quiet aircraft technology; other measures that might accommodate interests to visitors of national parks; and at the request of the Administrator and the Director, on safety, environmental, and other issues related to commercial air tour operations over national parks or tribal lands.

Agenda for the February 25, 2009, NPOAG Meeting

The agenda for the meeting will include, but is not limited to, the following: review of a Strategic Plan for the NPOAG, review and approval of the meeting minutes from the December 1, 2008 NPOAG telephone conference call meeting; discussion on the strawman for a competitive bidding process, and an update on ongoing Air Tour Management Plan (ATMP) program projects.

Public Participation for the Meeting

This NPOAG meeting will be conducted as a telephone conference call and will be open to the public. Interested persons may listen in on the proceedings in a “listen mode.” The conference call will take place from 9 a.m.-12 noon PST/12 noon-3 p.m. EST on February 25, 2009. The public can access the conference call by dialing 310-725-3333 and entering the passcode number 0225 when prompted, followed by the “#” sign.

Record of the Meeting

If you are unable to participate in this NPOAG meeting conference call, a summary record of the meeting will be made available under the NPOAG section of the FAA's ATMP Web site at http://www.atmp.faa.gov or through the Special Programs Staff, Western-Pacific Region, Federal Aviation Administration, P.O. Box 92007, Los Angeles, CA 90009-2007, telephone (310) 725-3800. The FAA's ATMP Web site, however, may be down temporarily due to maintenance.

Issued in Hawthorne, CA on February 9, 2009.
Barry S. Brayer,
Manager, Special Programs Office, Western-Pacific Region.

[FR Doc. E9-3209 Filed 2-17-09; 8:45 am]

BILLING CODE 4910-13-M